DEPARTMENT OF THE INTERIOR

Fish and Wildlife Service

50 CFR Part 17

[Docket No. FWS-R2-ES-2015-0028: FF09E42000 156 FXES11130900000]

RIN 1018-AX99

Endangered and Threatened Wildlife and Plants; Removing the Hualapai Mexican Vole From the Federal List of Endangered and Threatened Wildlife

AGENCY: Fish and Wildlife Service, Interior.

ACTION: Proposed rule and 12-month petition finding; request for comments.

SUMMARY: Under the authority of the Endangered Species Act of 1973, as amended (Act), we, the U.S. Fish and Wildlife Service (Service), announce a 12-month finding on a petition and a proposed rule to remove the Hualapai Mexican vole (Microtus mexicanus hualpaiensis) from the Federal List of Endangered and Threatened Wildlife because the original classification is no longer the most appropriate determination. This action is based on a thorough review of the best available scientific and commercial information, which indicates that the currently listed subspecies is not a valid taxonomic entity. We are seeking information, data, and comments from the public on this proposed rule.

DATES: To ensure that we are able to consider your comments on this proposed rule, they must be received or postmarked on or before August 3, 2015. Comments submitted to the Federal eRulemaking Portal (see ADDRESSES) must be received by 11:59 p.m. Eastern Time on the closing date. Any comments that we receive after the closing date may not be considered in the final decision on this action. We must receive requests for public hearings, in writing, at the address shown below in FOR FURTHER INFORMATION CONTACT by July 20, 2015.

ADDRESSES: You may submit comments by one of the following methods:

(1) Electronically: Go to the Federal eRulemaking Portal: http://www.regulations.gov. Search for FWS-R2-ES-2015-0028, which is the docket number for this rulemaking.

(2) By hard copy: Submit by U.S. mail or hand-delivery to: Public Comments Processing, Attn: FWS-R2-ES-2011-0037; Division of Policy, Performance, and Management Programs; U.S. Fish and Wildlife Service, MS: BPHC; 5275 Leesburg Pike; Falls Church, VA 220411-3803.

We will post all comments on http://www.regulations.gov. This generally means that we will post any personal information you provide us (see the Information Requested section below for more information).

FOR FURTHER INFORMATION CONTACT: Steve Spangle, Field Supervisor, U.S. Fish and Wildlife Service, Arizona Ecological Services Field Office, 2321 W. Royal Palm Road, Suite 103, Phoenix, AZ 85021; by telephone (602-242-0210) or by facsimile (602-242-2513). If you use a telecommunications device for the deaf (TDD), call the Federal Information Relay Service (FIRS) at 800-877-8339.

SUPPLEMENTARY INFORMATION:

Information Requested

Any final action resulting from this proposed rule will be based on the best scientific and commercial data available and be as accurate as possible. Therefore, we request comments or information from the public, other concerned governmental agencies, Native American Tribes, the scientific community, industry, or other interested parties concerning this proposed rule. The comments that will be most useful and likely to influence our decisions are those supported by data or peer-reviewed studies and those that include citations to, and analyses of, applicable laws and regulations. Please make your comments as specific as possible and explain the basis for them. In addition, please include sufficient information with your comments to allow us to authenticate any scientific or commercial data you reference or provide. In particular, we seek comments concerning the following:

(1) New information concerning the taxonomic classification and conservation status of Hualapai Mexican voles and Mexican voles in general;

(2) New information on the historical and current status, range, distribution, and population size of Hualapai Mexican voles, including the locations of any additional populations; and,

(3) New information regarding the life history, ecology, and habitat use of Hualapai Mexican voles.

Please note that submissions merely stating support for or opposition to the action under consideration without providing supporting information, although noted, will not be considered in making a determination, as section 4(b)(1)(A) of the Act directs that determinations as to whether any species is an endangered or threatened species must be made “solely on the basis of the best scientific and commercial data available.”

Prior to issuing a final rule on this proposed action, we will take into consideration all comments and any additional information we receive. Such information may lead to a final rule that differs from this proposal. All comments and recommendations, including names and addresses, will become part of the administrative record.

You may submit your comments and materials concerning this proposed rule by one of the methods listed in ADDRESSES. We will not consider comments sent by email, fax, or to an address not listed in ADDRESSES. If you submit information via http://www.regulations.gov, your entire submission—including any personal identifying information—will be posted on the Web site. Please note that comments posted to this Web site are not immediately viewable. When you submit a comment, the system receives it immediately. However, the comment will not be publicly viewable until we post it, which might not occur until several days after submission.

If you mail or hand-deliver hardcopy comments that include personal identifying information, you may request at the top of your document that we withhold this information from public review. However, we cannot guarantee that we will be able to do so. To ensure that the electronic docket for this rulemaking is complete and all comments we receive are publicly available, we will post all hardcopy submissions on http://www.regulations.gov.

In addition, comments and materials we receive, as well as supporting documentation we used in preparing this proposed rule, will be available for public inspection in two ways:

(1) You can view them on http://www.regulations.gov. In the Search box, enter FWS-R2-ES-2015-0028, which is the docket number for this rulemaking.

(2) You can make an appointment, during normal business hours, to view the comments and materials in person at the U.S. Fish and Wildlife Service's Arizona Ecological Services Field Office (see FOR FURTHER INFORMATION CONTACT).

Public Hearing

Section 4(b)(5)(E) of the Act provides for one or more public hearings on this proposed rule, if requested. We must receive requests for public hearings, in writing, at the address shown in FOR FURTHER INFORMATION CONTACT by the date shown in DATES. We will schedule public hearings on this proposal, if any are requested, and places of those hearings, as well as how to obtain reasonable accommodations, in the Federal Register at least 15 days before the first hearing.

Background

Section 4(b)(3)(A) of the Act (16 U.S.C. 1531 et seq.) requires that, for any petition to revise the Federal Lists of Endangered and Threatened Wildlife and Plants that contains substantial scientific or commercial information that delisting a species may be warranted, we make a finding within 12 months of the date of receipt of the petition. In this finding, we determine whether the petitioned action is: (a) Not warranted, (b) warranted, or (c) warranted, but immediate proposal of a regulation implementing the petitioned action is precluded by other pending proposals to determine whether species are threatened or endangered, and expeditious progress is being made to add or remove qualified species from the Federal Lists of Endangered and Threatened Wildlife and Plants. Section 4(b)(3)(C) of the Act requires that we treat a petition for which the requested action is found to be warranted but precluded as though resubmitted on the date of such finding, that is, requiring a subsequent finding to be made within 12 months. We must publish these 12-month findings in the Federal Register. This document represents our 12-month warranted finding on an August 18, 2004, petition by the Arizona Game and Fish Department (AGFD) to delist the Hualapai Mexican vole and a proposed rule to remove the Hualapai Mexican vole from the Federal List of Endangered and Threatened Wildlife due to data indicating that the original classification is no longer the appropriate determination.

Previous Federal Actions

The Hualapai Mexican vole was included in a list of species considered for listing in our Notice of Review published on December 30, 1982 (47 FR 58454). We published a proposed rule to list the Hualapai Mexican vole as endangered on January 5, 1987 (52 FR 306). The Hualapai Mexican vole was listed as an endangered subspecies on October 1, 1987, without critical habitat (52 FR 36776). On August 19, 1991, a Recovery Plan for the Hualapai Mexican vole was finalized and signed by the Regional Director (Service 1991). The recovery plan outlined recovery objectives and provided management actions and research priorities, but did not contain recovery criteria for downlisting or delisting because of lack of information on the vole's biology and life history requirements (Service 1991, p. iv).

On August 23, 2004, we received a petition dated August 18, 2004, from the AGFD requesting that the Hualapai Mexican vole be delisted under the Act. Included in the petition was information in support of delisting the Hualapai Mexican vole because the original classification is no longer the appropriate determination due to evidence that the Hualapai Mexican vole is not a valid subspecies. On May 15, 2008, we announced a 90-day finding in the Federal Register (73 FR 28094) that the petition presented substantial information to indicate that the petitioned action may be warranted. Further, on March 29, 2010, we published a notice initiating 5-year status reviews for the Hualapai Mexican vole as well as 13 other species (75 FR 15454). However, the 5-year status review for the Hualapai Mexican vole was not completed.

On January 8, 2015, we received a 60-day notice of intent to sue from Sedgwick LLC (representing Mohave County and American Stewards for Liberty) for failure to publish a 12-month finding on the status of the Hualapai Mexican vole. This document represents our 12-month warranted finding on the August 18, 2004, petition by the AGFD to delist the Hualapai Mexican vole and a proposed rule to remove the Hualapai Mexican vole from the Federal List of Endangered and Threatened Wildlife because the original classification is no longer the appropriate determination due to evidence that the Hualapai Mexican vole is not a valid subspecies.

Species Information

Goldman (1938, pp. 493-494) described and named the Hualapai Mexican vole as Microtus mexicanus hualpaiensis in 1938. Goldman's (1938, pp. 493-494) subspecies description was based on four specimens; Cockrum (1960, p. 210), Hall (1981, p. 481), and Hoffmeister (1986, pp. 444-445) all recognized Goldman's description. Hoffmeister (1986, pp. 444-445) further recognized the Microtus mexicanus hualpaiensis subspecies based on an examination of morphological characteristics from seven additional specimens collected in two areas in Arizona (i.e., Hualapai Mountains and lower end of Prospect Valley).

Based on morphological measurements, the Hualapai Mexican vole was previously considered one of three subspecies of Mexican voles (Microtus mexicanus) in Arizona (Kime et al. 1995, p. 1). The three subspecies of Mexican voles were the Hualapai Mexican vole (M. m. hualpaiensis), Navajo Mexican vole (M. m. navaho), and Mogollon Mexican vole (M. m. mogollonensis). The Hualapai Mexican vole differed from the Navajo Mexican vole subspecies by a slightly longer body, longer tail, and longer and broader skull (Hoffmeister 1986, p. 443). Additionally, the Navajo Mexican vole's range was farther to the northeast. The Haulapai Mexican vole was also differentiated from the Mogollon Mexican vole subspecies, located farther to the east, by a longer body, shorter tail, and a longer and narrower skull (Hoffmeister 1986, p. 443).

The final listing rule for the Hualapai Mexican vole (52 FR 36776; October 1, 1987) stated that this subspecies occupied the Hualapai Mountains, but also acknowledged that Spicer et al. (1985, p. 10) had found similar voles from the Music Mountains, which are located farther to the north in Arizona. The final listing rule (52 FR 36776; October 1, 1987) also stated that Hoffmeister (1986, p. 445) had tentatively assigned specimens from Prospect Valley to the Hualapai Mexican vole subspecies, pending a larger sample size. In addition, the final listing rule (52 FR 36776; October 1, 1987) stated that, if future taxonomic evaluation of voles from the Music Mountains and Prospect Valley should confirm that they are indeed the Hualapai Mexican vole subspecies, then they would be considered part of the federally listed entity. However, we never recognized Hualapai voles outside of the Hualapai Mountains due to insufficient data to support recognition of additional populations.

In May 1998, we reviewed Frey and Yates 1995 unpublished report, “Hualapai Vole (Microtus mexicanus hualpaiensis) Genetic Study”, to determine if Hualapai Mexican voles occur in additional areas outside of the Hualapai Mountains. We found that the report did not provide sufficient data for us to conclude that populations outside the Hualapai Mountains are Hualapai Mexican voles. On May 29, 1998, the Southwest Regional Director's Office issued a memo to the Arizona Ecological Services Field Office stating that we would only consult on voles in the Hualapai Mountains until further investigations resulted in data definitive enough to establish that the Hualapai Mexican voles had a wider distribution than recognized at the time of listing. Thus, we referenced the memo in all requests for consultations on Federal projects outside the Hualapai Mountains. For these reasons, we have only considered the Hualapai Mexican vole's range to be the Hualapai Mountains.

Since the Hualapai Mexican vole was listed in 1987 (52 FR 36776; October 1, 1987), several studies on the subspecies' distribution, morphological characteristics, and genetic relationships to other Mexican vole subspecies were undertaken. We briefly describe these studies below. Researchers did not collect or analyze samples from the exact same locations, so locations across studies do not necessarily match. At this time, these studies represent the best scientific information available in order for us to analyze Hualapai Mexican vole distribution and taxonomic classification.

In a 1989 unpublished master's thesis, Frey conducted an extensive study of geographic variation of specimens from throughout the range of the Microtus mexicanus group, which included populations in the United States and Mexico. Frey (1989) analyzed 44 external and 19 cranial characters from 1,775 vole specimens. Based on morphological analysis, Frey (1989, p. 50) recommended that specimens from the Bradshaw Mountains (Coconino County, AZ), which was formerly considered the Mogollon Mexican vole subspecies, be reassigned to the Hualapai Mexican vole subspecies, (Hoffmeister, 1986). Frey (1989, p. 50) concluded that two specimens that had been discovered from the Music Mountains (Mohave County, AZ) were morphologically distinct from other recognized subspecies, and these two specimens represented a previously unrecognized taxonomy. Frey's (1989) study did not include specimens from Prospect Valley.

Frey and Yates (1993, pp. 1-23) conducted a genetic analysis of Hualapai Mexican vole tissue samples taken from 83 specimens across 13 populations using protein electrophoresis and mitochondrial DNA. The 13 populations represented all 3 subspecies in Arizona and 1 population from Mexico (Frey and Yates 1993, p. 20). Their results showed that three populations (i.e., Hualapai Mountains, Hualapai Indian Reservation, and Music Mountains) form a closely related group distinct from other populations in Arizona (Frey and Yates 1993, p. 10). According to their analysis, populations in the Hualapai Mountains, Hualapai Indian Reservation, and Music Mountains could be regarded as the Hualapai Mexican vole subspecies. Further, Frey and Yates (1993, p. 10) found that the Navajo Mexican vole subspecies populations from San Francisco Peaks and the Grand Canyon occurred in a clade (i.e., related by a common ancestor) with the Mogollon Mexican vole subspecies populations along the Mogollon Rim. Frey and Yates (1993, p. 10) suggested that this grouping questions the validity of Navajo Mexican vole as a separate subspecies. However, in order to verify this suggestion, specimens would need to be examined from the type locality of the Navajo Mexican vole subspecies, which is Navajo Mountain, Utah (Frey and Yates 1993, p. 10). The authors recommended additional analyses, including larger sample sizes, to clarify the arrangement in three separate subspecies (Frey and Yates 1993, p. 10). At that time, we continued to recognize only recognize the Hualapai Mexican vole subspecies as occurring in the Hualapai Mountains.

Frey and Yates (1995) continued their genetic work on Mexican vole subspecies and analyzed 173 specimens from 28 populations (16 from Arizona, 10 from New Mexico, 1 from Utah, and 1 from Mexico) using protein electrophoresis and mitochondrial DNA. They found that six populations (Hualapai Mountains, Hualapai Indian Reservation, Music Mountains, Aubrey Cliffs/Chino Wash, Santa Maria Mountains, and Bradshaw Mountains) may be the Hualapai vole subspecies (Frey and Yates 1995, p. 9). The authors found unique alleles at two loci in these six populations, which identified them as being closely related (Frey and Yates 1995, p. 9). Based on geographic proximity, Frey and Yates (1995, p. 8) suspected that two other populations (Round Mountain and Sierra Prieta) could be the Hualapai vole subspecies, but they did not have adequate samples for genetic verification.

Additional genetic analyses were conducted by Busch et al. (2001). Busch et al. (2001, p. 4) examined nuclear genetic markers from 42 specimens across six populations in northwestern Arizona (Hualapai Mountains, Prospect Valley, Bradshaw Mountains, Sierra Prieta, Prescott, and Mingus Mountains) using Amplified Fragment Length Polymorphism (AFLP). Additionally, they examined mitochondrial (D-loop) DNA from 83 specimens across 13 populations in Arizona (Hualapai Mountains, Prospect Valley, Bradshaw Mountains, Sierra Prieta, Prescott, Mingus Mountains, South Rim Grand Canyon, San Francisco Mountain, Mogollon Rim, White Mountains, Chuska Mountains, Aubrey Cliffs, and Navajo Mountain). Results from their study did not support the separation of Mexican voles into three distinct subspecies based on nuclear and mitochondrial genetic analyses (Busch et al. 2001, p. 12). Populations referred to as the Navajo Mexican vole subspecies from Navajo Mountain, Mingus Mountain, San Francisco Peaks, and the Grand Canyon South Rim and populations referred to as the Mogollon Mexican vole subspecies from the Mogollon Rim, Chuska Mountains, and White Mountains were genetically similar to Mexican voles in the Hualapai Mountains, Hualapai Indian Reservation, Aubrey Cliffs, Bradshaw Mountains, Watson Woods, and Sierra Prieta (Busch et al. 2001, p. 12).

Busch et al. (2001, p. 12) suggested that only one subspecies of Mexican vole occurs in Arizona, but they did not suggest a new subspecies name or to which currently named subspecies the Mexican voles should belong. Further, Busch et al. (2001, p. 12) suggested that voles from the White Mountains and Chuska Mountains could be a different subspecies or may simply show some genetic differentiation due to geographic separation; however, their analysis was inconclusive. Even though Busch et al. (2001, p. 12) did not suggest a name for which the only subspecies of Mexican voles in Arizona belong, the AGFD's (2004, p. 4) petition referred to Busch et al.'s (2001) single subspecies as Microtus mexicanus hualpaiensis.

In 2003, the AGFD sent the Busch et al. (2001) report to five genetic experts representing the Arizona Cooperative Fish and Wildlife Research Unit, Conservation Breeding Specialist Group, University of Colorado at Boulder, Oklahoma State University, and New Mexico State University for review. Four out of the five reviewers agreed with the Busch et al. (2001, p. 12) findings that genetic data do not support separation of vole populations in Arizona into three subspecies. In other words, the genetic similarities indicate that individual vole populations cannot be assigned to one of the three subspecies. Two reviewers agreed with Busch et al. (2001, p. 12) that a possible exception could be in the White Mountains and Chuska Mountains; however, these populations may simply be showing slightly higher genetic distance based on geographic separation.

One of the five reviewers concluded that populations from the Hualapai Mountains, Music Mountains, and Hualapai Reservation form a closely related group distinct from other populations in Arizona. This reviewer further stated that M. m. hualpaiensis is a valid subspecies based on morphologic, genetic, and biogeographical data. The other four reviewers concurred with the conclusions of Busch et al. (2001) that all populations in Arizona could be referred to as M. m. hualpaiensis. Even though one reviewer believed that, based on morphological, genetic, and biogeographic evidence, populations for the Hualapai Mountains, Prospect Valley, Bradshaw Mountains area (including Sierra Prieta), and Chino Wash should be recognized as the Hualapai vole subspecies, the other four reviewers concurred with the Busch et al. (2001) report that all populations in Arizona are the same subspecies (AGFD 2004, p. 4).

At our request, the AGFD sent Busch et al.'s (2001) genetic report to two mammalian taxonomy experts for additional review. One of the taxonomic reviewers agreed with the one dissenting genetic reviewer from 2003 who stated that there are sufficient data to support distinguishing more than one subspecies of Mexican voles in Arizona, and concurred with the genetic reviewer's population assignments (AGFD 2004, p. 4). The other taxonomic reviewer concluded that there is no basis to consider the three subspecies of Mexican voles (Hualapai, Navajo, and Mogollon) separately. This second taxonomic reviewer stated that data used by Hoffmeister (1986) were insufficient to recognize three subspecies based on morphology, and that the genetic analyses conducted by Frey and Yates (1993; 1995) and Busch et al. (2001) were subject to methodological problems (AGFD 2004, p. 4). The second taxonomic reviewer asserted that all three subspecies should be considered as one subspecies, M. m. mogollonensis (common name not suggested).

In summary, the various analyses and reviews present multiple interpretations of the taxonomy and distribution of Mexican voles in Arizona, none of which correlate with that of our original listing. The final listing rule for the Hualapai Mexican vole (52 FR 36776; October 1, 1987) relied on the best available information at the time, and only included Mexican voles found in the Hualapai Mountains. The various published and unpublished reports all offer different conclusions about which populations may or may not be Hualapai Mexican voles. At this time, the best available scientific information presents conflicting information on the taxonomy of Mexican voles in general, and no longer supports the recognition of a separate Hualapai Mexican vole subspecies. Reviews of the published and unpublished reports have inconsistent conclusions. However, there is sufficient evidence to indicate that the currently listed entity for the Hualapai Mexican vole is no longer a valid taxonomic subspecies. Therefore, based on the best available scientific and commercial information at this time, we find that the petitioned action to delist the subspecies is warranted, and we propose to remove the Hualapai Mexican vole (Microtus mexicanus hualpaiensis) from the Federal List of Endangered and Threatened Wildlife due to recent data indicating that the original determination is no longer appropriate.

Finding

We reviewed the petition, information available in our files, other available published and unpublished information, and we consulted with genetic and taxonomic experts and other Federal, State, and Tribal agencies. On the basis of the best scientific and commercial information available, we find that the petitioned action to delist the Hualapai Mexican vole is warranted because the original determination at the time the species was classified as endangered in 1987 is now in error and is no longer appropriate. There is sufficient evidence to indicate that the currently listed entity for the Hualapai Mexican vole is not a valid taxonomic subspecies.

In making this finding, we have followed the procedures set forth in section 4(a)(1) of the Act and regulations implementing the listing provisions of the Act in title 50 of the Code of Federal Regulations (CFR) (50 CFR part 424). We intend that any action for the Hualapai Mexican vole be as accurate as possible. Therefore, we will continue to accept additional information and comments from all concerned governmental agencies, the scientific community, Native American Tribes, industry, or any other interested party concerning this finding.

Delisting Proposal

Section 4 of the Act and its implementing regulations, 50 CFR part 424, set forth the procedures for listing, reclassifying, or removing species from the Federal Lists of Endangered and Threatened Wildlife and Plants. “Species” is defined by the Act as including any species or subspecies of fish or wildlife or plants, and any distinct vertebrate population segment of fish or wildlife that interbreeds when mature (16 U.S.C. 1532(16)). Once the “species” is determined, we then evaluate whether that species may be endangered or threatened because of one or more of the five factors described in section 4(a)(1) of the Act. We must consider these same five factors in reclassifying or delisting a species. For species that are already listed as endangered or threatened, the analysis of threats must include an evaluation of both the threats currently facing the species and the threats that are reasonably likely to affect the species in the foreseeable future following the delisting or downlisting and the removal or reduction of the Act's protections. We may delist a species according to 50 CFR 424.11(d) if the best available scientific and commercial data indicate that the species is neither endangered or threatened for the following reasons: (1) The species is extinct; (2) the species has recovered and is no longer endangered or threatened; and/or (3) the original scientific data used at the time the species was classified were in error. We determine that the original classification is in error because there is sufficient evidence that the currently listed entity for the Hualapai Mexican vole is not a valid taxonomic subspecies.

Effects of This Proposed Rule

This proposed rule, if made final, would revise our regulations at 50 CFR 17.11(h) by removing the Hualapai Mexican vole throughout its range from the Federal List of Endangered and Threatened Wildlife. Because no critical habitat was ever designated for this subspecies, this rule would not affect 50 CFR 17.95.

The prohibitions and conservation measures provided by the Act would no longer apply for the Hualapai Mexican vole. Interstate commerce, import, and export of this species would not be prohibited under the Act. In addition, Federal agencies would no longer be required to consult under section 7 of the Act on actions that may affect this species.

Post-Delisting Monitoring

Section 4(g)(1) of the Act requires the Secretary of the Interior, through the Service, to implement a system in cooperation with the States to monitor for not less than 5 years the status of all species that are removed from the Lists of Endangered and Threatened Wildlife and Plants (50 CFR 17.11, 17.12) due to recovery. The Hualapai Mexican vole is being proposed for delisting because the original determination at the time the species was classified is no longer appropriate. Because the Hualapai Mexican vole is not a valid taxonomic entity, no monitoring period following delisting would be required.

Peer Review

In accordance with our joint peer review policy with the National Marine Fisheries Service, “Notice of Interagency Cooperative Policy for Peer Review in Endangered Species Act Activities,” that was published in the Federal Register on July 1, 1994 (59 FR 34270), and the Office of Management and Budget's Final Information Quality Bulletin for Peer Review, dated December 16, 2004, we will seek the expert opinions of at least three appropriate independent specialists regarding the science in this proposed rule. The purpose of peer review is to ensure that our delisting decision is based on scientifically sound data, assumptions, and analyses. We will send copies of this proposed rule to the peer reviewers immediately following publication in the Federal Register. We will invite these peer reviewers to comment, during the public comment period, on the specific assumptions and conclusions in this proposed delisting of the Hualapai Mexican vole. We will summarize the opinions of these reviewers in the final decision document, and we will consider their input and any additional information we received as part of our process of making a final decision on this proposal. Such communication may lead to a final decision that differs from this proposal.

Required Determinations

Clarity of the Rule

We are required by Executive Orders 12866 and 12988 and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel we have not met these requirements, send us comments by one of the methods listed in ADDRESSES. To help us better revise the rule, your comments should be as specific as possible. For example, you should tell us the numbers of the sections or paragraphs that are unclearly written, which sections or sentences are too long, the sections where you feel lists or tables would be useful, etc.

Paperwork Reduction Act of 1995 (44 U.S.C. 3501, et seq.)

This rule does not contain any collections of information that require approval by the Office of Management and Budget (OMB) under the Paperwork Reduction Act. This rule will not impose recordkeeping or reporting requirements on State or local governments, individuals, businesses, or organizations. An agency may not conduct or sponsor and a person is not required to respond to a collection of information unless it displays a currently valid OMB control number.

National Environmental Policy Act

We have determined that environmental assessments and environmental impact statements, as defined under the authority of the National Environmental Policy Act of 1969, need not be prepared in connection with regulations adopted pursuant to section 4(a) of the Act. We published a notice outlining our reasons for this determination in the Federal Register on October 25, 1983 (48 FR 49244).

Government-to-Government Relationship With Tribes

In accordance with the President's memorandum of April 29, 1994, “Government-to-Government Relations with Native American Tribal Governments” (59 FR 22951), Executive Order 13175, and the Department of the Interior's manual at 512 DM 2, we readily acknowledge our responsibility to communicate meaningfully with recognized Federal Tribes on a government-to-government basis. Therefore, we will solicit information from Native American Tribes during the comment period to determine potential effects on them or their resources that may result from the delisting of the Hualapai Mexican vole, and we will fully consider their comments on the proposed rule submitted during the public comment period. We have already been in contact with the Hualapai Tribe's Natural Resource Department.

References Cited

A complete list of all references cited in this rule is available on the Web site, http://www.regulations.gov, or upon request from the Field Supervisor, Arizona Ecological Services Field Office (see FOR FURTHER INFORMATION CONTACT).

Authority

The authority for this section is section 4 of the Endangered Species Act of 1973, as amended (16 U.S.C. 1531 et seq.).

Author(s)

The primary authors of this document are the staff members of the Arizona Ecological Services Field Office, U.S. Fish and Wildlife Service (see FOR FURTHER INFORMATION CONTACT).

List of Subjects in 50 CFR Part 17

Endangered and threatened species, Exports, Imports, Reporting and recordkeeping requirements, Transportation.

Proposed Regulation Promulgation

Accordingly, we propose to amend part 17, subchapter B of chapter I, title 50 of the Code of Federal Regulations, as set forth below:

PART 17—[AMENDED]

1. The authority citation for part 17 continues to read as follows:

Authority: 16 U.S.C. 1361-1407; 1531-1544; 4201-4245; unless otherwise noted.

§ 17.11 [Amended]

2. Amend § 17.11(h) by removing the entry for “Vole, Hualapai Mexican” from the List of Endangered and Threatened Wildlife.

Dated: May 22, 2015.
Stephen Guertin,
Acting Director, U.S. Fish and Wildlife Service.

[FR Doc. 2015-13479 Filed 6-3-15; 8:45 am]

BILLING CODE 4310-55-P